DEPARTMENT OF COMMERCE

National Oceanic and Atmospheric Administration

Availability of Seats for National Marine Sanctuary Advisory Councils, Correction

AGENCY: Office of National Marine Sanctuaries (ONMS), National Ocean Service (NOS), National Oceanic and Atmospheric Administration (NOAA), Department of Commerce (DOC).

ACTION: Notice and request for applications; correction.

SUMMARY: ONMS published a request for applications for vacant seats on seven of its 13 national marine sanctuary advisory councils on August 14, 2015 (80 FR 48828). This notice is a correction to the number of vacant seats available for the Stellwagen Bank National Marine Sanctuary Advisory Council. Previously, ONMS requested applications for the following six seats on this council: Business/Industry (primary member); Mobile Gear Commercial Fishing (alternate); Recreational Fishing (alternate); Research (alternate); Whale Watch (alternate); and Youth (alternate). ONMS is requesting applications for all of the following seats: At-Large (primary member); Business/Industry (primary member); Diving (primary member); Diving (alternate); Education (two primary members); Fixed Gear Commercial Fishing (primary member); Fixed Gear Commercial Fishing (alternate); Mobile Gear Commercial Fishing (alternate); Recreational Fishing (alternate); Research (two alternates); Whale Watch (primary member); and Youth (alternate). No other advisory councils are affected by this notice.

DATES: Applications are due by September 30, 2015.

ADDRESSES: Application kits are specific to each advisory council. As such, application must be obtained from and returned to a council-specific address. For the Stellwagen Bank National Marine Sanctuary Advisory Council, contact: Nathalie Ward, Stellwagen Bank National Marine Sanctuary, 175 Edward Foster Road, Scituate, MA 02066; (781) 545-8026 extension 206; email Nathalie.Ward@noaa.gov; or download application from http://stellwagen.noaa.gov. Refer to council-specific addresses identified in the August 14, 2015, notice (identified above) for the other six advisory councils with vacant seats.

FOR FURTHER INFORMATION CONTACT: For further information on the Stellwagen Bank National Marine Sanctuary Advisory Council, please contact the individual identified in the Addresses section of this notice. Additional information on the other six advisory councils with vacant seats is available in the August 14, 2015, notice discussed under SUPPLEMENTARY INFORMATION.

SUPPLEMENTARY INFORMATION: As described in the August 14, 2015 notice (80 FR 48828), ONMS is seeking applications for vacant seats for seven of its 13 national marine sanctuary advisory councils (advisory councils). Vacant seats, including positions (i.e., primary member and alternate), for each of the advisory councils were listed in the August 14, 2015, notice. Applicants are chosen based upon their particular expertise and experience in relation to the seat for which they are applying; community and professional affiliations; views regarding the protection and management of marine or Great Lake resources; and possibly the length of residence in the area affected by the sanctuary. Applicants who are chosen as members or alternates should expect to serve two- or three year terms, pursuant to the charter of the specific national marine sanctuary advisory council.

The following is a list of the vacant seats, including positions (i.e., primary member or alternate), for the Stellwagen Bank National Marine Sanctuary Advisory Council:

Stellwagen Bank National Marine Sanctuary Advisory Council: At-Large (primary member); Business/Industry (primary member); Diving (primary member); Diving (alternate); Education (two primary members); Fixed Gear Commercial Fishing (primary member); Fixed Gear Commercial Fishing (alternate); Mobile Gear Commercial Fishing (alternate); Recreational Fishing (alternate); Research (two alternates); Whale Watch (primary member); and Youth (alternate).

The list of all other vacant seats for which applications are currently being sought is included in the August 14, 2015, notice referenced above.

Authority: 16 U.S.C. Sections 1431, et seq.

(Federal Domestic Assistance Catalog Number 11.429 Marine Sanctuary Program)

Dated: August 17, 2015.
John Armor,
Acting Director, Office of National Marine Sanctuaries, National Ocean Service, National Oceanic and Atmospheric Administration.

[FR Doc. 2015-20858 Filed 8-24-15; 8:45 am]

BILLING CODE 3510-NK-P